DEPARTMENT OF COMMERCE

Foreign Trade Zones Board

[B-27-2018]

Foreign-Trade Zone (FTZ) 81—Portsmouth, New Hampshire, Notification of Proposed Production Activity; Albany Safran Composites LLC (Carbon Fiber Composite Aircraft Engine Parts) Rochester, New Hampshire

Albany Safran Composites LLC (ASC) submitted a notification of proposed production activity to the FTZ Board for its facility located in Rochester, New Hampshire. The notification conforming to the requirements of the regulations of the FTZ Board (15 CFR 400.22) was received on April 6, 2018.

The company indicates that it will be submitting a separate application for FTZ designation at the ASC facility under FTZ 81. The facility is used for the manufacture of carbon fiber composite aircraft engine parts. Pursuant to 15 CFR 400.14(b), FTZ activity would be limited to the specific foreign-status material (epoxide resin) and specific finished products described in the submitted notification (as described below) and subsequently authorized by the FTZ Board.

Production under FTZ procedures could exempt ASC from customs duty payments on the epoxide resin used in export production. On its domestic sales, ASC would be able to choose the duty rates during customs entry procedures that apply to carbon fiber composite aircraft engine fan blades, cases and spacers (duty-free) for the foreign-status epoxide resin (duty rate—6.1%). ASC would be able to avoid duty on foreign-status resin which become scrap/waste. Customs duties also could possibly be deferred or reduced on foreign-status production equipment.

Public comment is invited from interested parties. Submissions shall be addressed to the FTZ Board's Executive Secretary at the address below. The closing period for their receipt is June 4, 2018.

A copy of the notification will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Diane Finver at Diane.Finver@trade.gov or (202) 482-1367.

Dated: April 16, 2018.
Andrew McGilvray,
Executive Secretary.

[FR Doc. 2018-08393 Filed 4-20-18; 8:45 am]

BILLING CODE 3510-DS-P